DEPARTMENT OF HEALTH AND HUMAN SERVICES

Solicitation of Partnering Organizations for Diabetes Detection Program

AGENCY: Department of Health and Human Services, Office of the Secretary, Office of Public Health and Science.

ACTION: Notice.

SUMMARY: On March 6, 2003, The Department of Health and Human Services (HHS) published an announcement seeking public and private sector organizations to partner in the establishment of the nationwide Diabetes Detection Program. This notice clarifies the intent of that announcement. It describes the Program and the partnerships, which would be established through memoranda of understanding with interested organizations and entities.

ADDRESSES: Notification of interest in partnering should be sent to Elizabeth Majestic, M.P.H., Acting Director, Office of Disease Prevention and Health Promotion, Office of Public Health and Science, Room 738-G, 200 Independence Ave., SW., Washington, DC 20201; (202) 401-6295 (telephone), 202-690-7054 (fax). Notifications may also be submitted by electronic mail to emajestic@osophs.dhhs.gov.

FOR FURTHER INFORMATION CONTACT: Ellis Davis, Office of Disease Prevention and Health Promotion, Office of Public Health and Science, Room 738-G, 200 Independence Ave., SW., Washington, DC 20201; (202) 260-2873 (telephone), (202) 690-7054 (fax), or by electronic mail to edavis@osophs.dhhs.gov.

SUPPLEMENTARY INFORMATION:

Background

The Department will be launching a diabetes detection initiative. The goal of the initiative is to encourage people at risk for diabetes to get tested and to refer those who test positive for follow-up. Approximately 6 million people have diabetes and do not know it. It is believed that for many of these people, earlier diagnosis and management or treatment can prevent or delay the devastating complications of diabetes. State health departments and federally-funded community health centers will serve as the cornerstone for these detection efforts.

To assist the Department in implementing the diabetes detection initiative, HHS is seeking partners to participate in the initiative in accordance with their particular interests. The partnerships would be established through memoranda of understanding where each party would be responsible for resources to support their activity.

Where appropriate, organizations and entities could collaborate with state health department and community health center programs, as in the following examples:

• Partnering organizations could participate in a nationwide advertising campaign that would alert the American public to the opportunity for diabetes detection;

• Partnering organizations could participate in the production or distribution of printed materials that will be used by state programs and community health centers responsible for implementing the initiative;

• Employers could adopt the project and conduct detection clinics where people at high risk of diabetes could be identified, then referred for specific diagnosis and followup if warranted;

• Hospitals could provide professional resources to conduct detection clinics;

• Managed care plans could adopt the project and encourage their enrollees to have themselves assessed for risk and alter their lifestyles if the risk warrants;

• Colleges and universities could conduct detection events for their student populations;

• Area agencies on aging could form a component of a statewide program.

Where a statewide program is not in place, partnering organizations such as these could proceed on their own.

Availability of Funds

There are no Federal funds available for these partnerships.

Content of Request for Partnership

Each request for partnership should contain a description of: (1) The entity or organization; (2) its proposed involvement in the Department's diabetes detection initiative; and (3) resources or services the partnering organization would like to offer.

Evaluation Criteria

Partners will be selected by the Office of Disease Prevention and Health Promotion using the following criteria:

(1) Requester's qualifications and capability to contribute to the partnership;

(2) Requester's creativity for contributing to the diabetes detection initiative.

Dated: March 25, 2003.
Elizabeth Majestic,
Acting Deputy Assistant Secretary for Health (Disease Prevention and Health Promotion), Department of Health and Human Services.

[FR Doc. 03-7692 Filed 3-28-03; 8:45 am]

BILLING CODE 4150-32-P